DEPARTMENT OF STATE

[Public Notice 3895]

Culturally Significant Objects Imported for Exhibition; Determinations: “The Age of Impressionism: European Masterpieces From Ordrupgaard, Copenhagen”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the objects to be included in the exhibition “The Age of Impressionism: European Masterpieces from Ordrupgaard, Copenhagen” imported from abroad for temporary exhibition within the United States, are of cultural significance. The objects are imported pursuant to loan agreements with the foreign owners. I also determine that the exhibition or display of the exhibit objects at The Walters Art Museum, Baltimore, MD, from on or about February 17, 2002, through May 26, 2002, the Metropolitan Museum of Art, New York, NY from on or about June 17, 2002, through September 8, 2002, and the Museum of Fine Arts, Houston, TX, from on or about October 6, 2002, through January 5, 2003, and at possible additional venues yet to be determined, is in the national interest. Public Notice of these Determinations is ordered to be published in the Federal Register.

FOR FURTHER INFORMATION CONTACT: For further information, including a list of the exhibit objects, contact David S. Newman, Attorney-Adviser, Office of the Legal Adviser, U.S. Department of State, (telephone: 202/619-6982). The address is U.S. Department of State, SA-44, 301 4th Street, S.W., Room 700, Washington, D.C. 20547-0001.

Dated: January 17, 2002.
Brian Sexton,
Acting Assistant Secretary for Educational and Cultural Affairs, Department of State.

[FR Doc. 02-1806 Filed 1-23-02; 8:45 am]

BILLING CODE 4710-08-U